DEPARTMENT OF LABOR

Employment and Training Administration

[TA-W-63,662]

Steelcase, Inc.; Andersons Desk, Inc.; City of Industry Plant, City of Industry, California; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on July 31, 2008, applicable to workers of Steelcase, Inc., City of Industry Plant, City of Industry, California. The notice was published in the Federal Register on August 12, 2008 (73 FR 46923).

At the request of the State agency, the Department reviewed the certification for workers of the subject firm. The workers were engaged in the production of office furniture.

New information shows that some workers separated from employment at the subject firm have had their wages reported under a separate unemployment insurance (UI) tax account for Andersons Desk, Inc.

Accordingly, the Department is amending the certification to properly reflect this matter.

The amended notice applicable to TA-W-63,662 is hereby issued as follows:

All workers of Steelcase, Inc., Andersons Desk, Inc., City of Industry Plant, City of Industry, California, who became totally or partially separated from employment on or after July 9, 2007, through July 31, 2010, are eligible to apply for adjustment assistance under Section 223 of the Trade Act of 1974 and are also eligible to apply for alternative trade adjustment assistance under Section 246 of the Trade Act of 1974.

Signed at Washington, DC, this 2nd day of October 2008.
Linda G. Poole,
Certifying Officer, Division of Trade Adjustment Assistance.

[FR Doc. E8-24126 Filed 10-9-08; 8:45 am]

BILLING CODE 4510-FN-P